NATIONAL AERONAUTICS AND SPACE ADMINISTRATION

[Notice: 17-047]

NASA Advisory Council; Ad Hoc Task Force on STEM Education Meeting

AGENCY: National Aeronautics and Space Administration.

ACTION: Notice of meeting.

SUMMARY: In accordance with the Federal Advisory Committee Act, as amended, the National Aeronautics and Space Administration (NASA) announces a meeting of the Ad Hoc Task Force on Science, Technology, Engineering and Mathematics (STEM) of the NASA Advisory Council (NAC). This Task Force reports to the NAC.

DATES: Tuesday, July 25, 2017, 12:00-4:30 p.m.; Local Time.

ADDRESSES: National Institute of Aerospace, Room 142, 100 Exploration Way, Hampton, VA 23666.

FOR FURTHER INFORMATION CONTACT: Dr. Beverly Girten, Executive Secretary, NAC Ad Hoc Task Force on STEM Education, NASA Headquarters, Washington, DC 20546, (202) 358-0212, or beverly.e.girten@nasa.gov.

SUPPLEMENTARY INFORMATION: The meeting will be open to the public up to the seating capacity of the room. This meeting is also available telephonically and by WebEx. You must use a touch-tone phone to participate in this meeting. Any interested person may dial the toll free access number 1-844-467-6272 or toll access number 1-720-259-6462, and then the numeric participant passcode: 634012 followed by the # sign. The WebEx link is https://nasa.webex.com/, the meeting number is 997 505 505 and the password is Elaine56$ (case sensitive).

Note: If dialing in, please “mute” your telephone.

The agenda for the meeting will include the following:

—Opening Remarks by Chair

—STEM Education Advisory Panel (CoSTEM)

—Update on Business Service Assessment

—Status on Office of Education Budget

—Discussing/Finalizing Findings and Recommendations

—Other Related Topics

Attendees will be requested to sign a register. It is imperative that the meeting be held on this date to accommodate the scheduling priorities of the key participants.

Carol J. Hamilton,
Acting Advisory Committee Management Officer, National Aeronautics and Space Administration.

[FR Doc. 2017-14115 Filed 7-5-17; 8:45 am]

BILLING CODE 7510-13-P